DEPARTMENT OF ENERGY

Federal Energy Regulatory Commission

[Docket No. CP21-457-000]

Dominion Energy Questar Pipeline, LLC; Notice of Request Under Blanket Authorization and Establishing Intervention and Protest Deadline

Take notice that on June 3, 2021, Dominion Energy Questar Pipeline, LLC, (DEQP), 333 South State Street, Salt Lake City, Utah 84111 filed in the above referenced docket a prior notice pursuant to its blanket certificate authority granted in Docket No. CP82-491-000 ¹ and sections 157.205, 157.208 and 157.210 of the Federal Energy Regulatory Commission's regulations under the Natural Gas Act, requesting authorization to construct facilities and make automation and communication updates at the Skull Creek Compressor Station (Skull Creek CS). The Skull Creek Expansion Project (Project) proposes to remove a capacity constraint at Skull Creek CS and thereby restore the operationally available capacity on Main Line (ML) 86 by 17,750 Dth/d, while remaining within the currently certificated capacity of the existing facilities. DEQP owns and operates Skull Creek CS, located on ML 86, near the border of Colorado in Sweetwater County, WY. ML 86 extends perpendicularly from DEQP's ML 22/23 Junction located in Moffat County, CO, approximately 26 miles north to the Southern Star Central Gas Pipeline, Inc (Southern Star) interconnect located in the southeast section of Sweetwater County, WY. The project will cause no adverse impacts or reduction of service to any existing customers on DEQP. The estimated cost for the Project is approximately $1,322,000, all as more fully set forth in the request which is on file with the Commission and open to public inspection.

¹ Mountain Fuel Resources, Inc., 20 FERC ¶ 62,580 (1982).

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TTY, (202) 502-8659.

Any questions concerning this application should be directed to Mark C. Stevens, General Manager Regulatory Affairs, (804) 399-2890, mark.c.stevens@dominionenergy.com, Dominion Energy Services, Inc., 120 Tredegar Street-3rd Floor, Richmond, VA 23219.

Public Participation

There are three ways to become involved in the Commission's review of this project: You can file a protest to the project, you can file a motion to intervene in the proceeding, and you can file comments on the project. There is no fee or cost for filing protests, motions to intervene, or comments. The deadline for filing protests, motions to intervene, and comments is 5:00 p.m. Eastern Time on August 13, 2021. How to file protests, motions to intervene, and comments is explained below.

Protests

Pursuant to section 157.205 of the Commission's regulations under the NGA,² any person ³ or the Commission's staff may file a protest to the request. If no protest is filed within the time allowed or if a protest is filed and then withdrawn within 30 days after the allowed time for filing a protest, the proposed activity shall be deemed to be authorized effective the day after the time allowed for protest. If a protest is filed and not withdrawn within 30 days after the time allowed for filing a protest, the instant request for authorization will be considered by the Commission.

² 18 CFR 157.205.

³ Persons include individuals, organizations, businesses, municipalities, and other entities. 18 CFR 385.102(d).

Protests must comply with the requirements specified in section 157.205(e) of the Commission's regulations,⁴ and must be submitted by the protest deadline, which is August 13, 2021. A protest may also serve as a motion to intervene so long as the protestor states it also seeks to be an intervenor.

⁴ 18 CFR 157.205(e).

Interventions

Any person has the option to file a motion to intervene in this proceeding. Only intervenors have the right to request rehearing of Commission orders issued in this proceeding and to subsequently challenge the Commission's orders in the U.S. Circuit Courts of Appeal.

To intervene, you must submit a motion to intervene to the Commission in accordance with Rule 214 of the Commission's Rules of Practice and Procedure ⁵ and the regulations under the NGA ⁶ by the intervention deadline for the project, which is August 13, 2021. As described further in Rule 214, your motion to intervene must state, to the extent known, your position regarding the proceeding, as well as your interest in the proceeding. For an individual, this could include your status as a landowner, ratepayer, resident of an impacted community, or recreationist. You do not need to have property directly impacted by the project in order to intervene. For more information about motions to intervene, refer to the FERC website at https://www.ferc.gov/resources/guides/how-to/intervene.asp.

⁵ 18 CFR 385.214.

⁶ 18 CFR 157.10.

All timely, unopposed motions to intervene are automatically granted by operation of Rule 214(c)(1). Motions to intervene that are filed after the intervention deadline are untimely and may be denied. Any late-filed motion to intervene must show good cause for being late and must explain why the time limitation should be waived and provide justification by reference to factors set forth in Rule 214(d) of the Commission's Rules and Regulations. A person obtaining party status will be placed on the service list maintained by the Secretary of the Commission and will receive copies (paper or electronic) of all documents filed by the applicant and by all other parties.

Comments

Any person wishing to comment on the project may do so. The Commission considers all comments received about the project in determining the appropriate action to be taken. To ensure that your comments are timely and properly recorded, please submit your comments on or before August 13, 2021. The filing of a comment alone will not serve to make the filer a party to the proceeding. To become a party, you must intervene in the proceeding.

How To File Protests, Interventions, and Comments

There are two ways to submit protests, motions to intervene, and comments. In both instances, please reference the Project docket number CP21-457-000 in your submission.

(1) You may file your protest, motion to intervene, and comments by using the Commission's eFiling feature, which is located on the Commission's website (www.ferc.gov) under the link to Documents and Filings. New eFiling users must first create an account by clicking on “eRegister.” You will be asked to select the type of filing you are making; first select “General” and then select “Protest”, “Intervention”, or “Comment on a Filing”; or ⁷

⁷ Additionally, you may file your comments electronically by using the eComment feature, which is located on the Commission's website at www.ferc.gov under the link to Documents and Filings. Using eComment is an easy method for interested persons to submit brief, text-only comments on a project.

(2) You can file a paper copy of your submission by mailing it to the address below.⁸ Your submission must reference the Project docket number CP21-457-000.

⁸ Hand-delivered submissions in docketed proceedings should be delivered to Health and Human Services, 12225 Wilkins Avenue, Rockville, Maryland 20852.

Kimberly D. Bose, Secretary, Federal Energy Regulatory Commission, 888 First Street NE, Washington, DC 20426

The Commission encourages electronic filing of submissions (option 1 above) and has eFiling staff available to assist you at (202) 502-8258 or FercOnlineSupport@ferc.gov.

Protests and motions to intervene must be served on the applicant either by mail or email (with a link to the document) at mark.c.stevens@dominionenergy.com, 120 Tredegar Street—3rd Floor, Richmond, VA 23219. Any subsequent submissions by an intervenor must be served on the applicant and all other parties to the proceeding. Contact information for parties can be downloaded from the service list at the eService link on FERC Online.

Tracking the Proceeding

Throughout the proceeding, additional information about the project will be available from the Commission's Office of External Affairs, at (866) 208-FERC, or on the FERC website at www.ferc.gov using the “eLibrary” link as described above. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. For more information and to register, go to www.ferc.gov/docs-filing/esubscription.asp.

Dated: June 14, 2021.
Kimberly D. Bose,
Secretary.

[FR Doc. 2021-13372 Filed 6-23-21; 8:45 am]

BILLING CODE 6717-01-P